DEPARTMENT OF HOMELAND SECURITY

Coast Guard

[USCG-2003-15731]

Great Lakes Pilotage Advisory Committee

AGENCY: Coast Guard, DHS.

ACTION: Notice of meeting.

SUMMARY: The Great Lakes Pilotage Advisory Committee (GLPAC) will meet to discuss various issues relating to pilotage on the Great Lakes. The meeting will be open to the public.

DATES: The GLPAC will meet on Tuesday, August 19, 2003, from 2 p.m. to 5:30 p.m. and on Wednesday, August 20, 2003, from 8 a.m. to 4 p.m. The meeting may close early if all business is finished. Written material and requests to make oral presentations should reach the Coast Guard on or before August 15, 2003. Requests to have a copy of your material distributed to each member of the committee should reach the Coast Guard on or before August 15, 2003.

ADDRESSES: GLPAC will meet at the Maritime Institute of Technology Training and Conference Center, 5700 Hammonds Ferry Road, Linthicum Heights, MD 21090, in Room 8 North located in Building 1. Parking is available in Lots A and B. Send written material and requests to make oral presentations to Margie Hegy, Commandant (G-MW), U.S. Coast Guard Headquarters, 2100 Second Street SW., Washington, DC 20593-0001. This notice is available on the Internet at http://dms.dot.gov in docket USCG-2003-15731.

FOR FURTHER INFORMATION CONTACT: Margie Hegy, Executive Director of GLPAC, telephone 202-267-0415, fax 202-267-4700.

SUPPLEMENTARY INFORMATION: Notice of the meeting is given under the Federal Advisory Committee Act, 5 U.S.C. App. 2.

Agenda: The agenda includes the following:

(1) Ratemaking Methodology Development—What are the proper factors/indicators that should be used to determine if the rate should be increased or decreased?

(2) Update on Pilot Attrition.

(3) Briefing on Maritime Security on the Great Lakes.

(4) Develop Notice for Public Input on Cost Saving Reform Strategies for Great Lakes Pilotage.

(5) Acting Director of Great Lakes Pilotage Report.

(6) Briefing on Determining Pilotage Rate by Vessel Size.

(7) Solicitation of Seventh Member.

(8) Brainstorming Session on the Use of Non-Association Pilots.

(9) Promoting Great Lakes Ports—what are the constraints to having a 12-month shipping season?

(10) Overview of Public Comments on the Bridge Hour Study.

Procedural

The meeting is open to the public. Please note that the meeting may close early if all business is finished. At the Chair's discretion, members of the public may make oral presentations during the meeting. If you would like to make an oral presentation at the meeting, please notify the Executive Director no later than August 15, 2003. Written material for distribution at the meeting should reach the Coast Guard no later than August 15, 2003. If you would like a copy of your material distributed to each member of the committee in advance of the meeting, please submit 10 copies to Margie Hegy at the address in the ADDRESSES section no later than August 11, 2003.

Information on Services for Individuals With Disabilities

For information on facilities or services for individuals with disabilities or to request special assistance at the meeting, contact the Executive Director as soon as possible.

Dated: July 24, 2003.
T.H. Gilmour,
Rear Admiral, U.S. Coast Guard, Assistant Commandant for Marine Safety, Security and Environmental Protection.

[FR Doc. 03-19646 Filed 7-31-03; 8:45 am]

BILLING CODE 4910-15-U